DEPARTMENT OF TRANSPORTATION

Federal Aviation Administration

14 CFR Part 71

[Docket No. FAA-2021-1079; Airspace Docket No. 21-ASO-15]

RIN 2120-AA66

Amendment and Removal of Air Traffic Service (ATS) Routes; Eastern United States

AGENCY: Federal Aviation Administration (FAA), DOT.

ACTION: Final rule.

SUMMARY: This action amends one jet route, and removes one jet route and one high altitude area navigation (RNAV) route in the eastern United States. These actions are in support of the VHF Omnidirectional Range (VOR) Minimum Operational Network (MON) to improve the efficiency of the National Airspace System (NAS) and reduce dependency on ground-based navigational systems.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

History

The FAA published a notice of proposed rulemaking for Docket No. FAA-2021-1079 in the Federal Register (86 FR 70771; December 13, 2021), amending four jet routes, and removing one jet route and one high altitude area navigation (RNAV) route in the eastern United States. The description of jet route J-73 was inadvertently omitted from the NPRM. Therefore, the FAA published a supplemental notice of proposed rulemaking in the Federal Register (87 FR 10997; February 28, 2022) amending J-73. Interested parties were invited to participate in this rulemaking effort by submitting written comments on both NPRMs. No comments were received.

Jet routes are published in paragraph 2004, and United States area navigation routes (Q routes) are published in paragraph 2006, respectively, of FAA Order JO 7400.11F dated August 10, 2021, and effective September 15, 2021, which is incorporated by reference in 14 CFR 71.1. The jet routes and Q route listed in this document would be subsequently amended in, or removed from, FAA Order JO 7400.11

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

The NPRM included the proposed amendment of jet routes J-20, J-41, and J-73. Subsequent to publication of the NPRM, the FAA determined that additional coordination was needed to develop the modifications to these routes. Therefore, J-20, J-41, and J-73 are removed from this rule. Any action on those routes is delayed to a later date. Routes J-31, J-69, and Q-63 will be amended or removed as published in the NPRM.

The Rule

The FAA is proposing an amendment to 14 CFR part 71 to amend jet route J-31, and to remove J-69, and high altitude RNAV route Q-63, in the eastern United States. This action supports the VOR MON program.

The proposed route changes are as follows:

J-31: J-31 currently extends from Leeville, LA, to Vulcan, AL. This action removes the segment from Meridian, MS, to Vulcan, AL. As amended, J-31 extends from Leeville, LA, to Meridian, MS.

J-69: J-69 currently extends from Semmes, AL to Vulcan, AL. The route is not required for air traffic control purposes. This action removes the entire route.

Q-63: Q-63 currently extends between the DOOGE, VA, waypoint (WP) and the HEVAN, IN, WP. The FAA is removing Q-63 because it was replaced by an extension of Q-93 (Docket No. 2021-0913; 87 FR 14396; March 15, 2022), effective on May 19, 2022.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending jet route J-31, and removing J-69 and Q-63, in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F Airspace Designations and Reporting Points, dated August 10, 2021, and effective September 15, 2021, is amended as follows:

Paragraph 2004 Jet Routes.

* * * * *

J-31 [Amended]

From Leeville, LA; Harvey, LA; to Meridian, MS.

* * * * *

J-69 [Removed]

* * * * *

Paragraph 2006 United States Area Navigation Routes.

* * * * *

Q-63 [Removed]

* * * * *

Issued in Washington, DC, on June 21, 2022.
Scott M. Rosenbloom,
Manager, Airspace Rules and Regulations.

[FR Doc. 2022-13579 Filed 6-27-22; 8:45 am]

BILLING CODE 4910-13-P